DEPARTMENT OF THE INTERIOR

National Park Service

National Register of Historic Places; Notification of Pending Nominations and Related Actions

Nominations for the following properties being considered for listing or related actions in the National Register were received by the National Park Service before January 15, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by March 1, 2005.

Carol D. Shull,
Keeper of the National Register of Historic Places.

ARIZONA

Gila County

Pine Community Center Historic District, Bounded by Randall Dr., AZ 87/260, unnamed service Rd., and Pine Creek Dr. Pine, 05000068

CALIFORNIA

Alpine County

Webster Schoolhouse, Old, 135 School St., Markleeville, 05000071

Los Angeles County

Avenel Cooperative Housing Project, 2839-2849 Avenel St., Los Angeles, 05000070

San Diego County

Holzwasser—Walker Scoot Building and Owl Drug Building, 1014 Fifth ave. and 402-416 Broadway, San Diego, 05000072

Santa Clara County

Saratoga Foodhill Club, 20399 Park Place, Saratoga, 05000069

COLORADO

Grand County

East Inlet Trail, (Rocky Mountain National Park MPS) Rocky Mountain National Park, Estes Park, 05000073

Larimer County

Fern Lake Trail, (Rocky Mountain National Park MPS) Rocky Mountain National Park, Estes Park, 05000074

GEORGIA

Bibb County

Holt, Walter R., House, 3776 Vineville Ave., Macon, 05000076

Coweta County

Sargent Historic District, Roughly centered on the Arnall Mill Complex at the jct. of GA 16 and Old Carrolton Rd., Sargent, 05000077

Rabun County

Kilby, James Henry and Rachel, House, 28 Tumbling Waters Ln., Clayton, 05000078

Troup County

West Point Freight Depot, 305 W. 5th St., West Point, 05000075

MASSACHUSETTS

Barnstable County

Kelley, Mercelia Evelyn Eldredge, House, 2610 Main St., Chatham, 05000080

MASSACHUSETTS

Essex County

Lynn Memorial City Hall and Auditorium, 3 City Hall Square, Lynn, 05000082

Hampshire County

West Hatfield Historic District, 3-12 Church Ave., 2 Linseed Rd., 23-42 West St., Hatfield, 05000079

Plymouth County

Camp Kiwanee Historic District, 1 Camp Kiwanee Rd., Hanson, 05000081

MISSOURI

Jackson County

Harry S Truman National Historic Site (Boundary Increase), 601 and 605 W. Truman Rd. and 216 N. Delaware St., Independence, 05000083

St. Louis County

Norwood Hills Country Club, 1 Norwood Hills Country Club Dr., Ferguson, 05000084

NEW YORK

Nassau County

Felix, Pauline, House, 151 W. Penn St., Long Beach, 05000090

Schenck—Mann House, 222 Convent Rd., Syosset, 05000089

New York County

Look Building, 488 Madison Ave., New York, 05000087

Seville Hotel, 22 East 29th St., New York, 05000088

Williams, R.C., Warehouse, 259-273 Tenth Ave., New York, 05000086

Suffolk County

Prince, Henry W., Building, 54325 Main Rd., Southold, 05000091

NORTH CAROLINA

Randolph County

Lewis—Thornburg Farm, NC 1107, approx 1.5 mi. S of jct. with NC 1170, Asheboro, 05000085

OHIO

Cuyahoga County

South Brooklyn Commercial District, Roughly along Pearl and Broadview Rds., Cleveland, 05000092

Hamilton County

Eastwood Historic District, Roughly along Eastwood, Collinwood, Overbrook, Madison and Duck Creek Rds. Cincinnati, 05000093

OREGON

Multnomah County

Boschke—Boyd House, 2211 NE Thompson St., Portland, 05000094

McDougall—Campbell House, 3846 N.W. Thurman St., Portland, 05000095

PENNSYLVANIA

Bedford County

Coffee Pot, The, Business Rte 30, Bedford Township, 05000097

Bucks County

Eakin, John, Farm, 3298 PA 212, Main St., Springtown, Sprinfield Township, 05000100

Chester County

West Chester Historic District (Boundary Increase), Roughly bounded by West Chester's northern boundary, Poplar St., East Rosedale Ave., and South Bradford Ave., West Chester, 05000096

Elk County

Swedish Lutheran Parsonage, 230 Kane Street Wilcox, Jones Township, 05000099

Lancaster County

Woodward Hill Cemetery, Bounded by Strawberry St., S. Queen St., and Chesapeake St., Lancaster, 05000098

Wyoming County

Tunkhannock Historic District, Roughly bounded by Tioga, Pine, Harrison Sts., and Wyoming Ave., Tunkhannock, 05000101

WISCONSIN

Oneida County

McCord Village (Boundary Increase), Address Restricted, Lynne, 05000102

[FR Doc. 05-2741 Filed 2-11-05; 8:45 am]

BILLING CODE 4312-51-P